DEPARTMENT OF DEFENSE

Department of the Army

[Docket ID: USA-2019-HQ-0018]

Proposed Collection; Comment Request

AGENCY: Army & Air Force Exchange Service (Exchange), DoD.

ACTION: Information collection notice.

SUMMARY: In compliance with the Paperwork Reduction Act of 1995, the Army & Air Force Exchange Service (Exchange) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 22, 2019.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Army & Air Force Exchange Service, Office of the General Counsel, Compliance Division, ATTN: Teresa Schreurs, Privacy Manager, 3911 South Walton Walker Blvd., Dallas, TX 75236-1598 or call the Exchange Compliance Division at 800-967-6067.

SUPPLEMENTARY INFORMATION:

Title; Associated Form; and OMB Number: Exchange Employee Management and Pay System; Exchange Form 1450-011 “Annuity Application,” Exchange Form 1450-018 “Application for Payment of Survivor Annuity,” Exchange Form 1700-012 “Beneficiary Designation”, Web-based “Health/Benefit Enrollment”; OMB Control Number 0702-0139.

Needs and Uses: The information collection requirement is necessary to administer a number of different benefits and pay to eligible Exchange associates, former associates (retirees), their dependents, beneficiaries, spouses, and ex-spouses. This includes collecting data needed to provide and administer pay, salary and retirement entitlements.

Affected Public: Individuals or Households and Federal Government.

Annual Burden Hours: 7,755.

Number of Respondents: 10,340.

Responses per Respondent: 1.

Annual Responses: 10,340.

Average Burden per Response: 45 minutes.

Frequency: On occasion.

Respondents are active, former/retired or terminated Exchange personnel, including family members, beneficiaries and survivors. Respondents provide Annuity Application, Survivor annuity and may provide the Beneficiary Designation manually. Other benefits such as enrollment in health coverage, beneficiary designation, and retirement options are done so primarily through electronic means. Health, and 401(k) retirement collections are maintained by the service provider.

Dated: May 17, 2019.
Aaron Siegel,
Alternate OSD Federal Register Liaison Officer, Department of Defense.

[FR Doc. 2019-10713 Filed 5-21-19; 8:45 am]

BILLING CODE 5001-06-P